SECURITIES AND EXCHANGE COMMISSION

[OMB Control No. 3235-0120]

Proposed Collection; Comment Request; Extension: Form 18-K—Annual Report

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget (“OMB”) for extension and approval.

Form 18-K (17 CFR 249.318) is an annual report form used by foreign governments or political subdivisions of foreign governments that have securities listed on a United States exchange. The information to be collected is intended to ensure the adequacy and public availability of information available to investors. We estimate that Form 18-K takes approximately 8 hours to prepare and is filed once per year by approximately 37 respondents for a total annual reporting burden of 296 hours (8 hours per response × 37 responses). We estimate that there is no cost associated with this information collection because 100% of the burden is carried internally by the issuer.

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by September 22, 2025. There will be a second opportunity to comment on this SEC request following the Federal Register publishing a 30-Day Submission Notice.

Dated: July 17, 2025.
Sherry R. Haywood,
Assistant Secretary.

[FR Doc. 2025-13716 Filed 7-21-25; 8:45 am]

BILLING CODE 8011-01-P